DEPARTMENT OF TRANSPORTATION

Federal Motor Carrier Safety Administration

Docket No. FMCSA-2013-0028]

Qualification of Drivers; Exemption Applications; Vision

AGENCY: Federal Motor Carrier Safety Administration (FMCSA), DOT.

ACTION: Notice of applications for exemptions; request for comments.

SUMMARY: FMCSA announces receipt of applications from 25 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before June 10, 2013.

ADDRESSES: You may submit comments bearing the Federal Docket Management System (FDMS) Docket No. FMCSA-2013-0028 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 25 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Allan L. Anthony

Mr. Anthony, age 54, has had refractive amblyopia in his left eye since birth. The visual acuity in his right eye is 20/30, and in his left eye, counting fingers. Following an examination in 2013, his optometrist noted, “It is, in my opinion, that Mr. Anthony's vision is sufficient for operation of a commercial motor vehicle.” Mr. Anthony reported that he has driven straight trucks for 29 years, accumulating 188,500 miles, and tractor-trailer combinations for 29 years, accumulating 58,000 miles. He holds a Class A Commercial Driver's License (CDL) from Maryland. His driving record for the last 3 years shows no crashes and no convictions for moving violations in a CMV.

James C. Barr

Mr. Barr, 55, has had strabismic amblyopia in his left eye since childhood. The visual acuity in his right eye is 20/20, and in his left eye, 20/160. Following an examination in 2012, his optometrist noted, “In my medical opinion, Mr. Barr has sufficient central and peripheral vision; as well as, sufficient gross depth perception to perform the driving tasks required to operate a commercial vehicle.” Mr. Barr reported that he has driven straight trucks for 7 years, accumulating 350 miles. He holds a Class B CDL from Ohio. His driving record for the last 3 years shows no crashes and no convictions for moving violations in a CMV.

Clifford L. Burrus

Mr. Burruss, 71, has had refractive amblyopia in his right eye since childhood. The visual acuity in his right eye is 20/100, and in his left eye, 20/20. Following an examination in 2013, his optometrist noted, “Since Mr. Burruss has been a professional truck driver for 40 years with an accident free driving record, it is my opinion that his vision is satisfactory to continue in his occupation for the next two years.” Mr. Burruss reported that he has driven straight trucks for 1 year, accumulating 60,000 miles, and tractor-trailer combinations for 40 years, accumulating 5 million miles. He holds a Class A CDL from California. His driving record for the last 3 years shows no crashes and no convictions for moving violations in a CMV.

Brian G. Dvorak

Mr. Dvorak, 53, has had myopia in his left eye since childhood. The visual acuity in his right eye is 20/20, and in his left eye, 20/50. Following an examination in 2012, his ophthalmologist noted, “Mr. Dvorak has the ability to recognize the colors of traffic control signals and devices and in my opinion has sufficient vision to perform the driving tasks required to operate a commercial vehicle.” Mr. Dvorak reported that he has driven tractor-trailer combinations for 27 years, accumulating 270,000 miles. He holds a Class AM CDL from Illinois. His driving record for the last 3 years shows no crashes and no convictions for moving violations in a CMV.

Roger Dykstra

Mr. Dykstra, 58, has a central scotoma in his left eye due to a traumatic incident in 1986. The visual acuity in his right eye is 20/20, and in his left eye, 20/400. Following an examination in 2012, his ophthalmologist noted, “Enclosed is a copy of the formal perimetry test which indicates that the patient has a 120 degree field of vision and it is my medical opinion that Mr. Dykstra is able to operate his service truck for his employment in the same safe manner that he has done since his employment in 1995.” Mr. Dykstra reported that he has driven straight trucks for 40 years, accumulating 580,000 miles. He holds a Class B CDL from Illinois. His driving record for the last 3 years shows no crashes and no convictions for moving violations in a CMV.

Gerald R. Eister

Mr. Eister, 48, has had aniridia in his left eye since 2009. The visual acuity in his right eye is 20/20, and in his left eye, light perception. Following an examination in 2013, his optometrist noted, “So with the right eye seeing 20/20 without correction and the left eye having good peripheral I feel he is safe to operate a commercial vehicle.” Mr. Eister reported that he has driven straight trucks for 28 years, accumulating 873,600 miles, and tractor-trailer combinations for 10 years, accumulating 100,000 miles. He holds a Class A CDL from North Carolina. His driving record for the last 3 years shows no crashes and no convictions for moving violations in a CMV.

Juan M. Guerrero

Mr. Guerrero, 40, has had optic atrophy in his right eye since 1993. The visual acuity in his right eye is counting fingers, and in his left eye, 20/20. Following an examination in 2012, his optometrist noted, “Patient has sufficient vision to perform the driving tasks required to operate a commercial vehicle.” Mr. Guerrero reported that he has driven straight trucks for 13 years, accumulating 1.2 million miles. He holds a Class A CDL from Texas. His driving record for the last 3 years shows no crashes and one conviction for a moving violation in a CMV; he ran a stop sign.

Michael L. Huffman

Mr. Huffman, 59, has had strabismic amblyopia in his left eye since childhood. The visual acuity in his right eye is 20/20, and in his left eye, 20/400. Following an examination in 2013, his optometrist noted, “Based on his visual findings and his previous work and driving experience, I feel as though Mr. Huffman has sufficient vision to perform the driving tasks required to operate a commercial vehicle.” Mr. Huffman reported that he has driven straight trucks for 38 years, accumulating 3.8 million miles, tractor-trailer combinations for 3 years, accumulating 102,000 miles, and buses for 1.5 years, accumulating 750 miles. He holds a Class A CDL from Iowa. His driving record for the last 3 years shows no crashes and no convictions for moving violations in a CMV.

John T. Johnson

Mr. Johnson, 34, has a retinal detachment in his right eye due to a traumatic incident in 1998. The visual acuity in his right eye is 20/200, and in his left eye, 20/20. Following an examination in 2013, his optometrist noted, “Given the stability of his exam, his excellent visual acuity, color vision and visual field in the left eye, he should be able to continue operating a commercial vehicle from a vision standpoint.” Mr. Johnson reported that he has driven straight trucks for 13 years, accumulating 650,000 miles, and tractor-trailer combinations for 13 years, accumulating 650,000 miles. He holds a Class A CDL from New Mexico. His driving record for the last 3 years shows no crashes and no convictions for moving violations in a CMV.

Kevin S. Kacicz

Mr. Kacicz, 42, has a cataract in his left eye due to a traumatic incident during childhood. The best corrected visual acuity in his right eye is 20/25, and in his left eye, 20/50. Following an examination in 2012, his optometrist noted, “I certify that I have reviewed the federal requirements for drivers of interstate commercial vehicle with respect to vision, and in my opinion, the above patient does meet the federal requirements for vision for interstate commercial vehicle operators.” Mr. Kacicz reported that he has driven straight trucks for 15 years, accumulating 699,990 miles, and tractor-trailer combinations for 6 months, accumulating 100,000 miles. He holds a Class A CDL from Pennsylvania. His driving record for the last 3 years shows no crashes and no convictions for moving violations in a CMV.

Thomas Korycki

Mr. Korycki, 48, has had amblyopia in his left eye due since childhood. The best corrected visual acuity in his right eye is 20/20, and in his left eye, 20/200. Following an examination in 2012, his ophthalmologist noted, “Patient has sufficient vision to perform tasks required to operate commercial vehicle.” Mr. Korycki reported that he has driven straight trucks for 33 years, accumulating 33,000 miles. He holds an operator's license from New Jersey. His driving record for the last 3 years shows no crashes and no convictions for moving violations in a CMV.

John Kozminski

Mr. Kozminski, 59, has had amblyopia in his left eye since childhood. The best corrected visual acuity in his right eye is 20/20, and in his left eye, 20/400. Following an examination in 2012, his ophthalmologist noted, “In my medical opinion, Mr. Kozminski has sufficient vision to perform the driving tasks required to operate a commercial vehicle.” Mr. Kozminski reported that he has driven straight trucks for 25 years, accumulating 250,000 miles. He holds a chauffer's license from Michigan. His driving record for the last 3 years shows no crashes and no convictions for moving violations in a CMV.

Larry W. Lunde

Mr. Lunde, 60, has a retinal detachment in his right eye due to a traumatic incident in 2002. The best corrected visual acuity in his right eye is 20/100, and in his left eye, 20/20. Following an examination in 2012, his optometrist noted, “In my opinion, Larry Lunde has sufficient vision to perform all tasks required for driving a commercial vehicle.” Mr. Lunde reported that he has driven straight trucks for 30 years, accumulating 150,000 miles, and tractor-trailer combinations for 30 years, accumulating 3.3 million miles. He holds a Class A CDL from Washington. His driving record for the last 3 years shows no crashes and no convictions for moving violations in a CMV.

David Matos

Mr. Matos, 53, has had a prosthetic left eye since birth. The best corrected visual acuity in his right eye is 20/20, and in his left eye, no light perception. Following an examination in 2013, his optometrist noted, “He has a prosthetic left eye all his life . . . His vision is 20/20 in the right eye . . . I am confident in his ability to continue to drive a truck or any other commercial vehicle.” Mr. Matos reported that he has driven straight trucks for 30 years, accumulating 900,000 miles. He holds a Class B CDL from New York. His driving record for the last 3 years shows no crashes and no convictions for moving violations in a CMV.

Chad Penman

Mr. Penman, 43, has had optic nerve damage in his right eye since 2006. The visual acuity in his right eye is 20/80, and in his left eye, 20/20. Following an examination in 2013, his optometrist noted, “In my opinion Chad has sufficient vision to perform driving tasks required to operate a commercial vehicle.” Mr. Penman reported that he has driven straight trucks for 20 years, accumulating 800,000 miles, and tractor-trailer combinations for 10 years, accumulating 350,000 miles. He holds a Class A CDL from Utah. His driving record for the last 3 years shows no crashes and no convictions for moving violations in a CMV.

Raymond Potter

Mr. Potter, 51, has a prosthetic left eye due to a traumatic incident in 1991. The visual acuity in his right eye is 20/20, and in his left eye, no light perception. Following an examination in 2012, his optometrist noted, “In my opinion, he has sufficient vision to perform the driving tasks required to operate a commercial vehicle.” Mr. Potter reported that he has driven straight trucks for 14 years, accumulating 210,000 miles. He holds an operator's license from Rhode Island. His driving record for the last 3 years shows no crashes and no convictions for moving violations in a CMV.

David Rothermel

Mr. Rothermel, 46, has had high myopia in his right eye since childhood. The best corrected visual acuity in his right eye is 20/400, and in his left eye, 20/20. Following an examination in 2013, his optometrist noted, “Mr. Rothermel's uncorrected and corrected vision is more than sufficient to operate a commercial vehicle.” Mr. Rothermel reported that he has driven straight trucks for 22 years, accumulating 660,000 miles. He holds a Class 10 license from Rhode Island. His driving record for the last 3 years shows no crashes and no convictions for moving violations in a CMV.

Charles T. Spears

Mr. Spears, 44, has had a prosthetic left eye since 1993. The best corrected visual acuity in his right eye is 20/20, and in his left eye, no light perception. Following an examination in 2013, his optometrist noted, “In my medical opinion, Mr. Spears has sufficient vision to perform the driving tasks required to operate a commercial vehicle.” Mr. Spears reported that he has driven tractor-trailer combinations for 10 years, accumulating 250,000 miles. He holds a Class A CDL from Virginia. His driving record for the last 3 years shows no crashes and no convictions for moving violations in a CMV.

Brian Tessman

Mr. Tessman, 56, has had optic nerve hypoplasia in his left eye since birth. The best corrected visual acuity in his right eye is 20/15, and in his left eye, 20/400. Following an examination in 2013, his optometrist noted, “I certify that you are stable and in my opinion are sufficient to continue your commercial vehicle operations.” Mr. Tessman reported that he has driven straight trucks for 14 years, accumulating 653,744 miles. He holds an operator's license from Wisconsin. His driving record for the last 3 years shows no crashes and no convictions for moving violations in a CMV.

Gregory Thurston

Mr. Thurston, 55, has had anisometropic amblyopia in his left eye since childhood. The best corrected visual acuity in his right eye is 20/20, and in his left eye, 20/60. Following an examination in 2012, his optometrist noted, “In my medical opinion, Mr. Gregory Thurston has sufficient vision to perform the driving tasks required to operate a commercial vehicle.” Mr. Thurston reported that he has driven straight trucks for 33 years, accumulating 231,000 miles. He holds a Class B CDL from Pennsylvania. His driving record for the last 3 years shows no crashes and no convictions for moving violations in a CMV.

Donald R. Torbett

Mr. Torbett, 47, has had amblyopia in his left eye since childhood. The best corrected visual acuity in his right eye is 20/15, and in his left eye, 20/50. Following an examination in 2012, his optometrist noted, “In my opinion, Donald has sufficient vision to continue to operate a commercial vehicle without glasses.” Mr. Torbett reported that he has driven tractor-trailer combinations for 25 years, accumulating 2.5 million miles. He holds a Class A CDL from Iowa. His driving record for the last 3 years shows no crashes and no convictions for moving violations in a CMV.

Scharron Valentine

Mr. Valentine, 44, has had a macular scar in his right eye since childhood. The best corrected visual acuity in his right eye is 20/200, and in his left eye, 20/20. Following an examination in 2013, his optometrist noted, “From these results I believe Mr. Valentine has a sufficient visual acuity, visual field, and color discrimination to continue to safely operate a commercial vehicle.” Mr. Valentine reported that he has driven tractor-trailer combinations for 3 years, accumulating 234,000 miles. He holds a Class A CDL from Ohio. His driving record for the last 3 years shows no crashes and one conviction for a moving violation in a CMV; he exceeded the speed limit by 12 mph.

Allen D. Weiand

Mr. Weiand, 62, has had amblyopia in his left eye since childhood. The best corrected visual acuity in his right eye is 20/20, and in his left eye, 20/60. Following an examination in 2013, his optometrist noted, “In my medical opinion Allen Weiand's vision status is stable, and I would also state that he has sufficient vision to safely operate a motor vehicle (a commercial motor vehicle).” Mr. Weiand reported that he has driven straight trucks for 45 years, accumulating 900,000 miles, and tractor-trailer combinations for 40 years, accumulating 200,000. He holds Class A CDL from Pennsylvania. His driving record for the last 3 years shows no crashes and no convictions for moving violations in a CMV.

James Whiteway

Mr. Whiteway, 61, has had central corneal opacity in his left eye since 2000. The best corrected visual acuity in his right eye is 20/20, and in his left eye, 20/80. Following an examination in 2013, his ophthalmologist noted, “I feel that Mr. Whiteway has sufficient vision ability to operate a commercial vehicle.” Mr. Whiteway reported that he has driven straight trucks for 12 years, accumulating 800,000 miles, tractor-trailer combinations for 30 years, accumulating 3 million miles, and buses for less than one year, accumulating 50,000 miles. He holds a Class A CDL from Texas. His driving record for the last 3 years shows no crashes and no convictions for moving violations in a CMV.

Billy W. Wilson

Mr. Wilson, 55, has had amblyopia in his left eye since childhood. The best corrected visual acuity in his right eye is 20/25, and in his left eye, 20/200. Following an examination in 2013, his optometrist noted, “Sufficient vision to perform commercial driving tasks.” Mr. Wilson reported that he has driven tractor-trailer combinations for 24 years, accumulating 1.8 million miles. He holds a Class AM CDL from Tennessee. His driving record for the last 3 years shows no crashes and no convictions for moving violations in a CMV.

Request for Comments

In accordance with 49 U.S.C. 31136(e) and 31315, FMCSA requests public comment from all interested persons on the exemption petitions described in this notice. The Agency will consider all comments received before the close of business June 10, 2013. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: April 30, 2013.
Larry W. Minor,
Associate Administrator for Policy.

[FR Doc. 2013-11066 Filed 5-8-13; 8:45 am]

BILLING CODE 4910-EX-P